NUCLEAR REGULATORY COMMISSION

[Docket No. 70-7022; NRC-2020-0116]

Passport Systems, Inc.; North Billerica, MA

AGENCY: Nuclear Regulatory Commission.

ACTION: License termination; issuance.

SUMMARY: The U.S. Nuclear Regulatory Commission (NRC) is providing public notice of the termination of Special Nuclear Materials (SNM) License No. SNM-2016. The NRC has terminated the license held by Passport Systems, Inc. (Passport), to possess and use SNM for developing new technologies to detect special nuclear materials in cargo containers for the U.S. Department of Homeland Security (DHS), Domestic Nuclear Detection Office. The license was terminated at Passport's request since it no longer needed the sources for development of their cargo inspection system.

DATES: The license termination for SNM-2016 was issued on May 4, 2020.

ADDRESSES: Please refer to Docket ID NRC-2020-0116 when contacting the NRC about the availability of information regarding this document. You may obtain publicly-available information related to this document using any of the following methods:

• Federal Rulemaking Website: Go to https://www.regulations.gov and search for Docket ID NRC-2020-0116. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

FOR FURTHER INFORMATION CONTACT: Osiris Siurano-Perez, Office of Nuclear Material Safety and Safeguards, U.S. Nuclear Regulatory Commission, Washington, DC 20555-0001; telephone: 301-415-7827, email: Osiris.Siurano-Perez@nrc.gov.

SUPPLEMENTARY INFORMATION:

I. Discussion

The NRC has terminated License No. SNM-2016, held by Passport Systems, Inc., for possession and use of SNM at its facilities at 76 Treble Cove Road, in North Billerica, and at 700 Summer St., Conley Terminal in the Port of Boston. Passport was contracted by the DHS to develop new technologies to detect special nuclear materials in cargo containers. The program included utilizing SNM placed inside fully loaded cargo containers and other concealments during testing of proprietary equipment to determine if it can locate SNM sources placed inside containers when surrounded by the cargo. The materials used consisted of Low Enriched Uranium and High Enriched Uranium constructed for DHS. The SNM consisted of SNM produced by Pacific Northwest National Laboratory, a highly enriched uranium metal source, low enriched uranium metal sources, and uranium oxides (U02 and U308). The sources used under this license were constructed by and owned by the Department of Energy, who retains ownership.

The initial application for this license was received on November 5, 2010. The NRC issued Passport's SNM license on December 12, 2011. Prior to submitting its request for license termination on October 16, 2019, during NRC staff inspections of Passport's main office in North Billerica, MA, and its field office in the Port of Boston on August 29-30, 2018, and March 19, 2019, respectively, Passport stated that it had discussed its intention to terminate their SNM-2016 license since it no longer needed the sources for development of their cargo inspection system. Passport's use of the licensed materials was for testing newly developed detection equipment. Therefore, consistent section 51.22(c)(14)(v) of title 10 of the Code of Federal Regulations (10 CFR), the initial licensing action was categorically excluded from the need to prepare an Environmental Assessment or an Environmental Impact Statement. The NRC staff prepared a safety evaluation report for the termination of SNM-2018. This license termination complies with 10 CFR 70.38, the standards and requirements of the Atomic Energy Act of 1954, as amended, and the NRC's rules and regulations as set forth in 10 CFR Chapter I. Accordingly, this license termination was issued on May 4, 2020.

II. Availability of Documents

The documents identified in the following table are available to interested persons through ADAMS, as indicated.

Document | ADAMS Accession No.
Passport Systems, Inc. License Application | ML110110650.
Letter to Paul H. Johnson, Passport Systems, Inc., Issuance of Special Nuclear Material License SNM-2016 | ML112760702 (package).
Enclosure 2: Passport Systems Materials License SNM-2016 Docket No. 70-7022 (Public Version) | ML113430777.
License Amendment Request to Terminate Special Nuclear Materials License No. SNM-2016 | ML19290E196 (package).
Approval of Amendment to Terminate Special Nuclear Material License Number 2016 | ML20009E807.
Safety Evaluation Report: Termination of Special Nuclear Materials License | ML20009E809.
Amendment 4 of SNM-2016 | ML20009E810.

Dated: June 30, 2020.
For the Nuclear Regulatory Commission.
Kevin M. Ramsey,
Acting Chief, Fuel Facility Licensing Branch, Division of Fuel Management, Office of Nuclear Material Safety and Safeguards.

[FR Doc. 2020-14481 Filed 7-6-20; 8:45 am]

BILLING CODE 7590-01-P